DEPARTMENT OF TRANSPORTATION

Federal Aviation Administration

14 CFR Part 39

[Docket No. FAA-2006-24254; Directorate Identifier 2006-CE-24-AD]

RIN 2120-AA64

Airworthiness Directives; Cirrus Design Corporation Models SR20 and SR22 Airplanes

AGENCY: Federal Aviation Administration (FAA), Department of Transportation (DOT).

ACTION: Notice of proposed rulemaking (NPRM).

SUMMARY: We propose to supersede Airworthiness Directive (AD) 2005-17-19, which applies to certain Cirrus Design Corporation (CDC) Models SR20 and SR22 airplanes. AD 2005-17-19 currently requires you to measure and adjust the crew seat break-over bolts and to replace the crew seat recline locks on both crew seats. Since we issued AD 2005-17-19, CDC developed new crew seat break-over pins to replace the old crew seat break-over bolts. Consequently, this proposed AD would retain the action from AD 2005-17-19 of replacing the crew seat recline locks on both seats and would add the action of replacing the crew seat break-over bolts with the new crew seat break-over pins on both seats. We are proposing this AD to prevent the crew seats from folding forward during emergency landing dynamic loads with consequent occupant injury.

DATES: We must receive comments on this proposed AD by June 15, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Cirrus Design Corporation, 4515 Taylor Circle, Duluth, Minnesota 55811; telephone: (218) 727-2737; Internet address: http://www.cirrusdesign.com.

FOR FURTHER INFORMATION CONTACT ONE OF THE FOLLOWING: • Wess Rouse, Small Airplane Project Manager, ACE-117C, Chicago Aircraft Certification Office, 2300 East Devon Avenue, Room 107, Des Plaines, Illinois 60018; telephone: (847) 294-8113; facsimile: (847) 294-7834; e-mail: wess.rouse@faa.gov; or

• Angie Kostopoulos, Composite Technical Specialist, ACE-116C, Chicago Aircraft Certification Office, 2300 East Devon Avenue, Room 107, Des Plaines, Illinois 60018; telephone: (847) 294-7426; facsimile: (847) 294-7834; e-mail: evangelia.kostopoulos@faa.gov.

SUPPLEMENTARY INFORMATION:

Comments Invited

We invite you to send any written relevant data, views, or arguments regarding this proposed AD. Send your comments to an address listed under the ADDRESSES section. Include the docket number, “FAA-2006-24254; Directorate Identifier 2006-CE-24-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

CDC performed dynamic seat testing on Models SR20 and SR22 airplanes. CDC found that, under emergency landing dynamic loads, the crew seats may fold forward at less than the 26 g required by 14 CFR 23.562(b)(2). This condition, if not corrected, could result in the crew seats folding forward during emergency landing dynamic loads with consequent occupant injury.

This condition caused us to issue AD 2005-17-19, Amendment 39-14240 (70 FR 51999, September 1, 2005). AD 2005-17-19 currently requires the following on CDC Models SR20 and SR22 airplanes:

• Measuring and adjusting the crew seat break-over bolts; and

• Replacing the crew seat recline locks on both crew seats.

Since AD 2005-17-19, CDC performed more dynamic seat testing on Models SR20 and SR22 airplanes and found that the crew seats may still fold forward at less than the 26 g required by 14 CFR 23.562(b)(2). CDC developed new crew seat break-over pins to replace the crew seat break-over bolts.

Relevant Service Information

We have reviewed CDC Service Bulletins SB 2X-25-06 R4, Issued August 13, 2004, Revised May 5, 2005; and SB 2X-25-17 R1, Issued December 15, 2005, Revised January 20, 2006.

The service information describes procedures for:

• Replacing the crew seat break-over bolts with the new crew seat break-over pins;

• Inspecting crew seats;

• Determining number of bolts used to secure recline locks to the seat frame;

• Performing recline lock replacement; and

• Checking the crew seat break-over pin alignment.

FAA's Determination and Requirements of the Proposed AD

We are proposing this AD because we evaluated all information and determined the unsafe condition described previously is likely to exist or develop on other products of the same type design. This proposed AD would supersede AD 2005-17-19 with a new AD that would retain the action of replacing the crew seat recline locks on both crew seats and would add the action of replacing the crew seat break-over bolts with the new crew seat break-over pins on both seats. This proposed AD would require you to use the service information described previously to perform these actions.

Costs of Compliance

We estimate that this proposed AD would affect 2,230 airplanes in the U.S. registry.

We estimate the following costs to do the proposed replacements:

Labor cost | Model number and serial number | Parts cost | Total cost per airplane | Total cost on U.S. operators
Replacement of the recline locks: 1 workhour × $80 per hour = $80 | Model SR20, serial numbers S/N 1148 through 1152 and 1206 through 1455 | $83 | $163 | $41,565
Replacement of the recline locks: 1 workhour × $80 per hour = $80 | Model SR20, S/N 1005 through 1147 and 1153 through 1205 | 165 | 245 | 48,020
Replacement of the recline locks: 1 workhour × $80 per hour = $80 | Model SR22, S/N 0002 through 1044 | 89 | 169 | 176,267
Replacement of the crew seat break-over pins: 1 workhour × $80 per hour = $80 | Model SR20, S/N 1005 through 1600 and Model SR22, S/N 0002 through 1727 | 33 | 113 | 262,273

Note: CDC may provide warranty credit for service bulletins SB 2X-25-17 R1, Issued: December 15, 2005; Revised: January 20, 2006; and SB 2X-25-06 R4, Issued: August 13, 2004; Revised: May 5, 2005.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, Part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

Where can I go to view the docket information? You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-17-19, Amendment 39-14240, and adding the following new AD:

Cirrus Design Corporation: Docket No. FAA-2006-24254; Directorate Identifier 2006-CE-24-AD; Supersedes AD 2005-17-19; Amendment 39-14240.

Comments Due Date

(a) We must receive comments on this airworthiness directive (AD) action by June 15, 2006.

Affected ADs

(b) This AD supersedes AD 2005-17-19, Amendment 39-14240.

Unsafe Condition

(c) This AD affects the following airplane models and serial numbers that are certificated in any category:

Model | Serial Nos.
(1) SR20 | 1005 through 1600.
(2) SR22 | 0002 through 1727.

Unsafe Condition

(d) This AD results from discovering that the crew seats, under emergency landing dynamic loads, may fold forward at less than the 26 g required by the regulations, 14 Code of Federal Regulations (CFR) 23.562(b)(2). We are issuing this AD to prevent the crew seats from folding forward during emergency landing with dynamic loads with consequent occupant injury.

Compliance

(e) To address this problem, you must do the following:

Actions | Compliance | Procedures
(1) For Model SR20, serial numbers (S/Ns) 1005 through 1600, and Model SR22, S/Ns 0002 through 1727, do the following actions: (i) At the lower back of the crew seat, release the reclosable fasteners to expose the lower seat frame. | Within 50 hours time-in-service (TIS) or within 180 days, whichever occurs first, after the effective date of this AD. | Follow Cirrus Design Corporation Service Bulletin SB 2X-25-17 R1, Issued: December 15, 2005; Revised: January 20, 2006.
(ii) Replace the crew seat break-over bolt with the new crew seat break-over pin, part number 17063-002.
(iii) Recover the seat frame, refastening the reclosable fasteners.
(iv) Inspect the crew seat.
(v) Repeat the above actions for the opposite crew seat.
(2) For Models SR20, S/Ns 1005 through 1455, and SR22, S/Ns 0002 through 1044, do the following actions: (i) Identify whether the recline lock is secured with two bolts or three bolts. | Within 50 hours TIS or within 180 days, whichever occurs first after October 13, 2005 (the effective date of AD 2005-17-19), unless already accomplished. | Follow Cirrus Design Corporation Service Bulletin SB 2X-25-06 R4, Issued: August 13, 2004; Revised: May 5, 2005.
(ii) If the recline locks are secured with two bolts, remove the existing recline locks and replace with the new recline locks kit, Kit Number 70084-001.
(iii) If the recline locks are secured with three bolts, remove existing recline locks and replace with the new recline locks kit, Kit Number 70084-002.
(iv) Check break-over pin alignment and adjust as necessary.
(v) Check that the locks engage with the break-over bolts with the seat in the full recline position. If full seat recline is not possible or difficult to engage, grinding of the lower aft seat frame is necessary.
(vi) Repeat the above actions for the opposite crew seat.

Alternative Methods of Compliance (AMOCs)

(f) The Manager, Chicago Aircraft Certification Office, FAA, ATTN: Wess Rouse, Small Airplane Project Manager, ACE-117C, Chicago Aircraft Certification Office, 2300 East Devon Avenue, Room 107, Des Plaines, Illinois 60018; telephone: (847) 294-8113; facsimile: (847) 294-7834; e-mail: wess.rouse@faa.gov; or Angie Kostopoulos, Composite Technical Specialist, ACE-116C, Chicago Aircraft Certification Office, 2300 East Devon Avenue, Room 107, Des Plaines, Illinois 60018; telephone: (847) 294-7426; facsimile: (847) 294-7834; e-mail: evangelia.kostopoulos@faa.gov, have the authority to approve AMOCs for this AD, if requested using the procedures found in 14 CFR 39.19.

Related Information

(g) To get copies of the documents referenced in this AD, contact Cirrus Design Corporation, 4515 Taylor Circle, Duluth, Minnesota 55811; telephone: (218) 727-2737; Internet address: http://www.cirrusdesign.com. To view the AD docket, go to the Docket Management Facility; U.S. Department of Transportation, 400 Seventh Street, SW., Nassif Building, Room PL-401, Washington, DC, or on the Internet at http://dms.dot.gov. The docket number is Docket No. FAA-2006-24254; Directorate Identifier 2006-CE-24-AD.

Issued in Kansas City, Missouri, on April 25, 2006.
Kim Smith,
Manager, Small Airplane Directorate, Aircraft Certification Service.

[FR Doc. E6-6590 Filed 5-1-06; 8:45 am]

BILLING CODE 4910-13-P